ENVIRONMENTAL PROTECTION AGENCY

[FRL-7226-1]

Agency Information Collection Activities; Submission to OMB; Comment Request; EPA ICR No. 0277.13/OMB Control No. 2070-0060; Application for New and Amended Pesticide Registration

AGENCY: Environmental Protection Agency (EPA).

ACTION: Notice.

SUMMARY: In compliance with the Paperwork Reduction Act (PRA) (44 U.S.C. 3501 et seq.), this document announces that the following Information Collection Request (ICR) has been forwarded to the Office of Management and Budget (OMB) for review and approval: Application for New and Amended Pesticide Registration; EPA ICR No. 0277.13; OMB Control No. 2070-0060. The ICR, which is abstracted below, describes the nature of the information collection activity and its expected burden and costs. The Federal Register document, required under 5 CFR 1320.8(d), soliciting comments on this collection of information was published on September 18, 2001 (66 FR 48130). EPA received no comments on this ICR during the 60-day comment period.

DATES: Additional comments may be submitted on or before July 10, 2002.

FOR FURTHER INFORMATION CONTACT: Contact Susan Auby at EPA by phone at (202) 566-1672, by email at auby.susan@epa.gov, or access the ICR at http://www.epa.gov/icr/icr.htm and refer to EPA ICR No. 0277.13; OMB Control No. 2070-0060.

ADDRESSES: Send your comments, referencing the proper ICR numbers to: Ms. Susan Auby, U.S. Environmental Protection Agency, Office of Environmental Information, Collection Strategies Division (2822T), 1200 Pennsylvania Ave, NW., Washington, DC 20460; and send a copy of your comments to: Office of Information and Regulatory Affairs, Office of Management and Budget (OMB), Attention: Desk Officer for EPA, 725 17th Street, NW, Washington, DC 20503.

SUPPLEMENTARY INFORMATION: ICR Title: Application for New and Amended Pesticide Registration (EPA ICR 0277.13, OMB Control No. 2070-0060).

ICR Status: This is a request for extension of an existing approved collection that is currently scheduled to expire on April 30, 2002. EPA is asking OMB to approve this ICR for three years. Under 5 CFR 1320.12(b)(2), the Agency may continue to conduct or sponsor the collection of information while the submission is pending at OMB.

Abstract: This information collection activity is designed to provide EPA with necessary data to evaluate an application of a pesticide product as required under the Federal Insecticide, Fungicide and Rodenticide Act (FIFRA) (7 U.S.C. 136). Under FIFRA, EPA must evaluate pesticides thoroughly before they can be marketed and used in the United States to ensure that they will not pose unreasonable adverse effects to human health and the environment. Pesticides that meet this test are granted a license or “registration” which permits their distribution, sale and use according to requirements set by EPA to protect human health and the environment. An individual or entity wanting to obtain a registration for a pesticide product must submit an application package consisting of information relating to the identity and composition of the product, proposed labeling, and supporting data (or compensation for others' data) for the product as outlined in 40 CFR part 158. The EPA bases registration decisions for pesticides on its evaluation of a battery of test data provided primarily by applicants for registration. Required studies include testing to show whether a pesticide has the potential to cause unreasonable adverse human health or environmental effects.

Burden Statement: The annual “respondent” burden for this ICR is estimated to be 152,974 hours, with individual respondent burden ranging from 14 hours to194 hours per submission, depending upon the type of registration activity involved. According to the Paperwork Reduction Act (PRA), “burden” means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information. The Agency may not conduct or sponsor, and a person is not required to respond to a collection of information that is subject to approval under the PRA, unless it displays a currently valid OMB control number. The OMB control numbers for EPA's information collections appear on the collection instruments or instructions, in the Federal Register notices for related rulemakings and ICR notices, and, if the collection is contained in a regulation, in a table of OMB approval numbers in 40 CFR part 9.

The following is a summary of the burden estimates taken from the ICR:

Respondents/affected entities: Pesticide Manufactures Applying for Registration.

Estimated total number of potential respondents: 2,100.

Frequency of response: As needed.

Estimated total/average number of responses for each respondent: 3.

Estimated total annual burden hours: 152,974

Estimated total annual non-labor costs: $0.

Changes in the ICR Since the Last Approval: The total annual burden associated with this ICR has decreased by 34,666 hours, from 187,640 hours in the previous ICR to 152,974 hours for this renewal ICR. The change is primarily related to a decrease in the number of responses required by one of the pesticide registration divisions, and is described in detail in the ICR.

According to the procedures prescribed in 5 CFR 1320.12, EPA has submitted this ICR to OMB for review and approval. Any comments related to the renewal of this ICR should be submitted within 30 days of this notice, as described above.

Dated: May 29, 2002
Oscar Morales,
Director, Collection Strategies Division.

[FR Doc. 02-14482 Filed 6-7-02; 8:45 am]

BILLING CODE 6560-50-U